DEPARTMENT OF DEFENSE

Office of the Secretary

[Docket ID: DoD-2021-OS-0119]

Proposed Collection; Comment Request

AGENCY: Office of the General Counsel, Department of Defense (DoD).

ACTION: Information collection notice.

SUMMARY: In compliance with the Paperwork Reduction Act of 1995, the Office of the General Counsel announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 24, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DoD Standards of Conduct Office, Office of the General Counsel, Department of Defense, 1600 Defense Pentagon, Washington, DC 20301-1600. POC: Mr. Jeff Green, 703-695-3422.

SUPPLEMENTARY INFORMATION: Title; Associated Form; and OMB Number: Office of the Secretary of Defense Confidential Conflict-of-Interest Statement for the Advisory Committee Members; SD Form 830; OMB Control Number 0704-0551.

Needs and Uses: The information requested on this form is required by Title I of the Ethics in Government Act of 1978 (5 U.S.C. app.), Executive Order 12674, and 5 CFR part 2634, subpart I, of the Office of Government Ethics regulations. Respondents are members of or potential members of the Office of the Secretary of Defense Advisory Committees. SD Form 830 will assist in identifying potential conflicts of interest due to personal financial interests or affiliations. The collection of requested information will satisfy a Federal regulatory requirement and assist the Department of Defense in complying with applicable Federal conflict of interest laws and regulations.

Affected Public: Individuals or households.

Annual Burden Hours: 125.

Number of Respondents: 125.

Responses per Respondent: 1.

Annual Responses: 125.

Average Burden per Response: 1 hour.

Frequency: Annually.

Dated: November 17, 2021.
Aaron T. Siegel,
Alternate OSD Federal Register Liaison Officer, Department of Defense.

[FR Doc. 2021-25582 Filed 11-22-21; 8:45 am]

BILLING CODE 5001-06-P